DEPARTMENT OF COMMERCE

National Oceanic and Atmospheric Administration

50 CFR Part 660

[Docket No. 200505-0127; RTID 0648-XA378]

Fisheries Off West Coast States; Modifications of the West Coast Commercial and Recreational Salmon Fisheries; Inseason Actions #8 Through #15

AGENCY: National Marine Fisheries Service (NMFS), National Oceanic and Atmospheric Administration (NOAA), Commerce.

ACTION: Inseason modification of 2020 management measures.

SUMMARY: NMFS announces eight inseason actions in the 2020 ocean salmon fisheries. These inseason actions modified the commercial and recreational salmon fisheries in the area from the U.S./Canada border to the Oregon/California border.

DATES: The effective dates for the inseason actions are set out in this document under the heading Inseason Actions.

FOR FURTHER INFORMATION CONTACT: Christina Iverson at 360-742-2506, email: Christina.iverson@noaa.gov.

SUPPLEMENTARY INFORMATION:

Background

In the 2020 annual management measures for ocean salmon fisheries (85 FR 27317, May 8, 2020), NMFS announced management measures for the commercial and recreational fisheries in the area from Cape Falcon, OR, to the U.S./Mexico border, effective from 0001 hours Pacific Daylight Time (PDT), May 6, 2020, until the effective date of the 2021 management measures, as published in the Federal Register. NMFS is authorized to implement inseason management actions to modify fishing seasons and quotas as necessary to provide fishing opportunity while meeting management objectives for the affected species (50 CFR 660.409). Inseason actions in the salmon fishery may be taken directly by NMFS (50 CFR 660.409(a)—Fixed inseason management provisions) or upon consultation with the Pacific Fishery Management Council (Council) and the appropriate State Directors (50 CFR 660.409(b)—Flexible inseason management provisions). The state management agencies that participated in the consultations described in this document were: The Washington Department of Fish and Wildlife (WDFW), the Oregon Department of Fish and Wildlife (ODFW), and the California Department of Fish and Wildlife (CDFW).

Management Areas

Management of the salmon fisheries is generally divided into two geographic areas: North of Cape Falcon (NOF) (U.S./Canada border to Cape Falcon, OR) and south of Cape Falcon (SOF) (Cape Falcon, OR, to the U.S./Mexico border). The actions described in this document affected NOF and SOF fisheries as set out under the heading Inseason Actions.

Inseason Actions

Inseason Action #8

Description of the action: Inseason action #8 adjusted the July-September quota in the NOF commercial salmon fishery to account for an impact-neutral rollover of unused quota from the May-June fishery in the same area. The July-September quota was increased from 13,820 to 25,499 Chinook salmon.

Effective dates: Inseason action #8 took effect on July 9, 2020, and remained in effect through September 30, 2020, the end of the 2020 NOF commercial salmon season.

Reason and authorization for the action: Provision for this impact-neutral rollover of uncaught quota is specified in the 2020 ocean salmon regulations (85 FR 27317, May 8, 2020). The NOF May-June commercial salmon fishery had a quota of 13,820 Chinook salmon. Of that, 2,141 Chinook salmon were caught, leaving quota of 11,679 Chinook salmon uncaught. The Council's Salmon Technical Team (STT) determined that a 1:1 rollover of the unused quota to the July-September fishery would have similar stock-specific fishery impacts to those set preseason. Therefore, the remaining quota of 11,679 was rolled over, on an impact-neutral basis, to the July-September fishery and added to the quota set during preseason planning of 13,820, for an adjusted summer NOF commercial quota of 25,499 Chinook salmon. This action did not increase overall 2020 Chinook salmon quota in the NOF commercial salmon fishery. The NMFS West Coast Regional Administrator (RA) considered the landed catch of Chinook salmon to date, the amount of quota remaining, and the timing of the action relative to the length of the season, and determined that this inseason action was necessary to meet management goals set preseason. Inseason action to modify quotas is authorized by 50 CFR 660.409(b)(1)(i).

Consultation date and participants: Consultation under 50 CFR 660.409(b) on inseason action #8 occurred on July 9, 2020. Representatives from NMFS, WDFW, ODFW, and the Council participated in this consultation.

Inseason Action #9

Description of the action: Inseason action #9 adjusted the July quota in the SOF commercial salmon fishery in the Oregon Klamath Management Zone (Oregon KMZ) (Humbug Mountain, OR, to the Oregon/California border) to account for an impact-neutral rollover of unused quota from June. The July quota was adjusted from 300 Chinook salmon to 630 Chinook salmon.

Effective dates: Inseason action #9 took effect on July 9, 2020, and remained in effect through July 31, 2020, the end of the 2020 SOF commercial salmon season in the Oregon KMZ.

Reason and authorization for the action: The provision for this impact-neutral rollover of uncaught quota is specified in the 2020 ocean salmon regulations (85 FR 27317, May 8, 2020). The Oregon KMZ commercial salmon fishery had a June quota of 700 Chinook salmon. Of that, 165 Chinook salmon were caught, leaving quota of 535 Chinook salmon uncaught. Due to increased fishery impacts on Klamath River fall-run Chinook salmon in July as described in domestic fishery management models, as compared with June, the STT determined that the unused June quota of 535 Chinook salmon would need to be reduced to 330 Chinook salmon to attain an impact-neutral rollover to July. Therefore, 330 Chinook salmon were rolled over, on an impact-neutral basis, to the July fishery and added to the July quota set during preseason planning of 300 Chinook salmon, for an adjusted July Oregon KMZ commercial quota of 630 Chinook salmon. The RA considered the landed catch of Chinook salmon to date, the amount of quota remaining, and the timing of the action relative to the length of the season, and determined that this inseason action was necessary to meet management goals set preseason. Inseason action to modify quotas and/or fishing seasons is authorized by 50 CFR 660.409(b)(1)(i).

Consultation date and participants: Consultation on inseason action #9 occurred on July 9, 2020. Representatives from NMFS, CDFW, ODFW, and the Council participated in this consultation.

Inseason Action #10

Description of the action: Inseason action #10 closed the NOF recreational salmon fishery from Leadbetter Point, WA to Cape Falcon, OR (Columbia River subarea) due to anticipated attainment of quota.

Effective dates: Inseason action #10 took effect at 11:59 p.m., July 26, 2020, and remained in effect through September 30, 2020, the end of the 2020 NOF recreational salmon season.

Reason and authorization for the action: The purpose of inseason action #10 was to avoid exceeding the subarea quota for coho salmon in the Columbia River subarea recreational salmon fishery. The RA considered the landed catch of coho salmon to date, the amount of quota remaining, and the timing of the action relative to the length of the season, and determined that this inseason action was necessary to avoid exceeding the subarea quota set preseason. Inseason action to modify quotas and/or fishing seasons is authorized by 50 CFR 660.409(b)(1)(i).

Consultation date and participants: Consultation on inseason action #10 occurred on July 23, 2020. Representatives from NMFS, WDFW, ODFW, and the Council participated in this consultation.

Inseason Action #11

Description of the action: Inseason action #11 closed the NOF recreational salmon fishery from the U.S./Canada border to Cape Alava, WA (Neah Bay subarea), due to anticipated attainment of quota.

Effective dates: Inseason action #11 took effect at 11:59 p.m., August 7, 2020, and remained in effect through September 30, 2020, the end of the 2020 NOF recreational salmon season.

Reason and authorization for the action: The purpose of inseason action #11 was to avoid exceeding the subarea quota for coho salmon in the Neah Bay subarea recreational salmon fishery. The RA considered the landed catch of coho salmon to date, the amount of quota remaining, and the timing of the action relative to the length of the season, and determined that this inseason action was necessary to avoid exceeding the subarea quota set preseason. Inseason action to modify quotas and/or fishing seasons is authorized by 50 CFR 660.409(b)(1)(i).

Consultation date and participants: Consultation on inseason action #11 occurred on August 5, 2020. Representatives from NMFS, WDFW, ODFW, and the Council participated in this consultation.

Inseason Action #12

Description of the action: Inseason action #12 adjusted the non-mark selective coho salmon quota in the SOF recreational fishery from Cape Falcon to Humbug Mountain to account for an impact-neutral rollover of unused quota from the mark selective fishery in the same area. The non-selective quota was increased from 3,000 to 4,650.

Effective dates: Inseason action #12 took effect at 12:01 a.m. on September 4, 2020, and remained in effect through October 31, 2020, the end of the SOF recreational salmon season in the area from Cape Falcon to Humbug Mountain.

Reason and authorization for the action: Provision for this impact-neutral rollover of uncaught quota is specified in the 2020 ocean salmon regulations (85 FR 27317, May 8, 2020). The SOF June-August mark selective recreational coho salmon fishery had a remaining quota of 8,607 uncaught coho salmon as of August 26, 2020. The STT determined that a rollover of 1,650 of the unused quota to the non-mark selective fishery would have similar fishery impacts to those set during preseason planning for Oregon Coastal natural coho salmon, and would not exceed the 11.6 percent exploitation rate set preseason. Therefore, of the remaining coho quota, 1,650 was rolled over on an impact-neutral basis, to the non-mark selective fishery in the same area. This adjusted the September non-mark selective quota from 3,000 to 4,650 coho salmon. This action did not increase the overall 2020 coho salmon quota in the SOF recreational salmon fishery. The RA considered the landed catch of coho salmon to date, the amount of quota remaining, and the timing of the action relative to the length of the season, and determined that this inseason action was necessary to meet management goals set preseason. Inseason action to modify quotas and/or fishing seasons is authorized by 50 CFR 660.409(b)(1)(i).

Consultation date and participants: Consultation under 50 CFR 660.409(b) on inseason action #12 occurred on August 26, 2020. Representatives from NMFS, CDFW, ODFW, and the Council participated in this consultation.

Inseason Action #13

Description of the action: Inseason action #13 modified the days open for fishing from five to seven days a week, and adjusted the daily bag limit to allow retention of up to two Chinook salmon in the recreational salmon fishery U.S./Canada border to Cape Alava, WA (Westport subarea). Previously, the two salmon per day bag limit in this fishery allowed retention of only one Chinook salmon.

Effective dates: Inseason action #13 took effect at 12:01 a.m. on September 4, 2020, and remained in effect through the September 30, 2020, the end of the 2020 NOF recreational salmon season.

Reason and authorization for the action: The purpose of inseason action #13 was to allow greater access to available Chinook salmon quota in the recreational fishery. The RA considered Chinook and coho salmon landings and fishery effort in the Westport subarea and determined that this inseason action was necessary to meet management objectives set preseason. Inseason modification of recreational bag limits and recreational fishing days per calendar week is authorized by 50 CFR 660.409(b)(1)(iii).

Consultation date and participants: Consultation on inseason action #13 occurred on September 2, 2020. Representatives from NMFS, WDFW, ODFW, and the Council participated in this consultation.

Inseason Action #14

Description of the action: Inseason action #14 transferred 228 coho salmon from the NOF recreational coho salmon quota for the La Push subarea to the NOF recreational coho salmon quota for the Neah Bay subarea on a 1:1, impact-neutral basis. The Neah Bay quota was increased from 2,760 coho salmon to 2,988 coho salmon. The La Push quota was decreased from 690 coho salmon to 462 coho salmon. The NOF recreational coho salmon quota in the Neah Bay subarea was adjusted from 2,760 to 2,988 on an impact-neutral basis. This 1:1 roll over of coho salmon quota from the La Push subarea was necessary to have similar fishery impacts to those set preseason in Neah Bay. This also adjusted the La Push subarea quota from 690 coho salmon to 462 coho salmon.

Effective dates: Inseason action #14 took effect September 2, 2020, and remained in effect through September 30, 2020, the end of the 2020 NOF recreational salmon season.

Reason and authorization for the action: Provision for this impact-neutral rollover of uncaught quota is specified in the 2020 ocean salmon regulations (85 FR 27317, May 8, 2020). The NOF Neah Bay recreational coho salmon fishery reported an overage of 228 coho salmon as of August 7, 2020, when the fishery closed (see inseason action #11, above). At the time of the inseason consultation, the La Push subarea had 517 coho salmon remaining on the preseason quota of 690 coho salmon. The Council's STT determined that a 1:1 rollover of the unused coho quota from the La Push subarea to the Neah Bay subarea would have similar fishery impacts to those set preseason. Therefore, 228 of coho quota from the La Push subarea was rolled over, on an impact-neutral basis, to the Neah Bay subarea coho fishery, for an adjusted Neah Bay subarea quota of 2,988 for the 2020 season and a revised remaining La Push subarea coho quota of 462. This action did not increase overall 2020 coho salmon quota in the NOF recreational salmon fishery. The RA considered the landed catch of coho salmon to date, the amount of quota taken to date, and the timing of the action relative to the length of the season, and determined that this inseason action was necessary to meet management goals set preseason and address the overage in the Neah Bay subarea coho catch. Inseason action to modify quotas and/or fishing seasons is authorized by 50 CFR 660.409(b)(1)(i).

Consultation date and participants: Consultation on inseason action #14 occurred on September 2, 2020. Representatives from NMFS, WDFW, ODFW, and the Council participated in this consultation.

Inseason Action #15

Description of the action: Inseason action #15 closed the SOF recreational non-mark selective coho fishery from Cape Falcon, OR to Humbug Mountain, CA due to anticipated attainment of quota.

Effective dates: Inseason action #15 took effect at 12:01 a.m. Friday September 11, 2020, and remained in effect through September 30, 2020, the end of the 2020 SOF recreational salmon season in the area from Cape Falcon, OR to Humbug Mountain, CA.

Reason and authorization for the action: The purpose of inseason action #15 was to avoid exceeding the subarea quota for coho salmon in the SOF recreational salmon fishery in the area from Cape Falcon to Humbug Mountain. The RA considered the landed catch of coho salmon to date, the amount of quota remaining, and the timing of the action relative to the length of the season, and determined that this inseason action was necessary to avoid exceeding the subarea quota set preseason. The 2020 salmon management measures authorize the closure of fisheries, as specified in the 2020 ocean salmon regulations (85 FR 27317, May 8, 2020).

Consultation date and participants: Consultation on inseason action #15 occurred on September 8, 2020. Representatives from NMFS, CDFW, ODFW, and the Council participated in this consultation.

All other restrictions and regulations remain in effect as announced for the 2020 ocean salmon fisheries (85 FR 27317, May 8, 2020) and as modified by previous inseason actions (85 FR 31707, May 27, 2020 and 85 FR 55784, September 10, 2020).

The RA determined that these inseason actions, recommended by the States of Washington, Oregon, and California were warranted based on the best available information on Pacific salmon landings to date, fishery effort, and remaining Pacific salmon quota. The states manage the fisheries in state waters adjacent to the areas of the U.S. exclusive economic zone consistent with these Federal actions. As provided by the inseason notice procedures at 50 CFR 660.411, actual notice of the described regulatory action was given, prior to the time the action was effective, by telephone hotline numbers 206-526-6667 and 800-662-9825, and by U.S. Coast Guard Notice to Mariners broadcasts on Channel 16 VHF-FM and 2182 kHz.

Classification

NMFS issues these actions pursuant to section 305(d) of the Magnuson-Stevens Act. These actions are required by 50 CFR 660.409, which was issued pursuant to section 304(b), and is exempt from review under Executive Order 12866.

Pursuant to 5 U.S.C. 553(b)(B), there is good cause to waive prior notice and an opportunity for public comment on these actions, as notice and comment would be impracticable and contrary to the public interest. Prior notice and opportunity for public comment was impracticable because NMFS and the state agencies had insufficient time to provide for prior notice and the opportunity for public comment between the time Chinook and coho salmon catch and effort information was developed and fisheries impacts were calculated, and the time the fishery modifications had to be implemented in order to ensure that fisheries are managed based on the best available scientific information, ensuring that conservation objectives and limits for impacts to salmon species listed under the Endangered Species Act are not exceeded. As previously noted, actual notice of the regulatory action was provided to fishers through telephone hotline and radio notification. This action complies with the requirements of the annual management measures for ocean salmon fisheries (85 FR 27317, May 8, 2020), the Pacific Coast Salmon Fishery Management Plan (FMP), and regulations implementing the FMP under 50 CFR 660.409 and 660.411.

There is good cause under 5 U.S.C. 553(d)(3) to waive the 30-day delay in effective date, as a delay in effectiveness of these actions would allow fishing at levels inconsistent with the goals of the FMP and the current management measures.

Authority: 16 U.S.C. 1801 et seq.

Dated: March 8, 2021.
Jennifer M. Wallace,
Acting Director, Office of Sustainable Fisheries, National Marine Fisheries Service.

[FR Doc. 2021-05076 Filed 3-10-21; 8:45 am]

BILLING CODE 3510-22-P